DEPARTMENT OF ENERGY

Federal Energy Regulatory Commission

[Docket No. CP25-10-000[

Transcontinental Gas Pipe Line Company, LLC; Notice of Availability of the Environmental Assessment for the Proposed Southeast Supply Enhancement Project

The staff of the Federal Energy Regulatory Commission (FERC or Commission) has prepared an environmental assessment (EA) for the Southeast Supply Enhancement Project (Project), proposed by Transcontinental Gas Pipe Line Company, LLC (Transco) in the above-referenced docket.¹ Transco requests authorization to construct, modify, and operate facilities along its existing pipeline system in Virginia, North Carolina, South Carolina, Georgia, and Alabama, to provide 1,596,900 dekatherms per day of year-round firm transportation service to the southeastern United States.

¹ For tracking purposes under the National Environmental Policy Act, the unique identification number for documents relating to this environmental review is EAXX-019-20-000-1732530814.

FERC is the lead federal agency for authorizing interstate natural gas transmission facilities under the Natural Gas Act of 1938 (NGA) and the lead federal agency for preparation of the EA. The EA assesses the potential environmental effects of the Project in accordance with the requirements of the National Environmental Policy Act (NEPA) ² and the Commission's implementing regulations.³ The principal purposes of the EA are to: identify and assess the potential effects on the natural and human environment; describe and evaluate reasonable alternatives; identify and recommend mitigation measures; and facilitate public involvement in the environmental review process. The EA concludes that approval of the Project would not constitute a major federal action significantly affecting the quality of the human environment.

² National Environmental Policy Act of 1969, as amended (Public Law [Pub. L.] 91-190. 42 United States Code [U.S.C.] 4321-4347, as amended by Pub. L. 94-52, July 3, 1975; Pub. L. 94-83, August 9, 1975; Pub. L. 97-258, 4(b), September 13, 1982; Pub. L. 118-5, June 3, 2023; Pub. L. 119-21, July 4, 2025).

³ 18 Code of Federal Regulations (CFR) 380.

The U.S. Army Corps of Engineers (USACE) Norfolk District and the U.S. Fish and Wildlife Service (FWS) Virginia Ecological Services Field Office participated as cooperating agencies in the preparation of the EA. Cooperating agencies have jurisdiction by law or special expertise with respect to resources potentially affected by the proposal and participate in the NEPA analysis. The USACE has authority under section 404 of the Clean Water Act (CWA) to regulate the discharge of dredged or fill materials into Waters of the United States, as well as sections 10 and 14 of the Rivers and Harbors Act.⁴ The EA addresses environmental effects associated with the subject Project as it relates to these statutes, but it does not serve as a public notice for any USACE permit.

⁴ The USACE's regulations for permits under section 10 of the Rivers and Harbors Act (33 U.S.C. 403) can be found at 33 CFR 322, while regulations for permits under section 404 of the CWA are at 33 CFR 323 and processing of permits is at 33 CFR 325.

The mission of the FWS is to conserve, protect, and enhance fish, wildlife, and plants and their habitats. Toward that goal, the FWS works to enforce federal wildlife laws, protect endangered species, manage migratory birds, conserve habitats including wetlands, and restore fisheries. FERC is required to consult with the FWS under section 7 of the Endangered Species Act to determine whether any federally listed or proposed endangered or threatened species or their designated critical habitats would be affected by the Project. The EA addresses this required consultation.

The Southeast Supply Enhancement Project would consist of:

• Construction of about 31.2 miles of 42-inch-diameter pipeline loop with four mainline valves in Pittsylvania County, Virginia, and Rockingham County, North Carolina, designated as the Eden Loop.

• Construction of about 24.2 miles of 42-inch-diameter pipeline loop with six mainline valves in Guilford, Forsyth, and Davidson Counties, North Carolina, designated as the Salem Loop.

• Regulator installation in Rockingham County, North Carolina, designated as the Eden Regulator Station.

• Construction of about 294 feet of 30-inch-diameter pipeline and ancillary valves in Rockingham County, North Carolina, designated as the Dan River Inlet Piping.

• Addition of compressor units at Transco's existing Compressor Stations 165 in Pittsylvania County, Virginia; 155 in Davidson County, North Carolina; and 150 in Iredell County, North Carolina.

• Replacement of three existing compressor units with larger compressor units at Transco's existing Compressor Station 145 in Cleveland County, North Carolina.

• Modifications to valve controls at existing mainline valves in Lincoln and Gaston Counties, North Carolina.

• Piping modifications at Transco's existing Compressor Stations 135 in Anderson County, South Carolina; 125 in Walton County, Georgia; and 105 in Coosa County, Alabama.

• Regulator installation and piping modifications at Transco's existing Compressor Station 120 in Henry County, Georgia.

The Commission mailed a copy of the Notice of Availability of the Environmental Assessment for the Southeast Supply Enhancement Project to federal, state, and local government representatives and agencies; elected officials; environmental and public interest groups; Native American tribes; potentially affected landowners and other interested individuals and groups; and newspapers and libraries in the Project area. The EA is available only in electronic format. It may be viewed and downloaded from the FERC's website (www.ferc.gov) on the natural gas environmental documents page (https://www.ferc.gov/industries-data/natural-gas/environment/environmental-documents). In addition, the EA may be accessed by using the eLibrary link on FERC's website. Click on the eLibrary link (https://elibrary.ferc.gov/eLibrary/search), select “General Search” and enter the docket number in the “Docket Number” field, excluding the last three digits (i.e., CP25-10). Be sure you have selected an appropriate date range. For assistance, please contact FERC Online Support at FercOnlineSupport@ferc.gov or toll free at (866) 208-3676, or for TTY, contact (202) 502-8659.

The EA is not a decision document. It presents Commission staff's independent analysis of the environmental issues for the Commission to consider when addressing the merits of all issues in this proceeding. Under section 7(c) of the NGA, the Commission determines whether interstate natural gas transportation facilities are in the public convenience and necessity and, if so, grants a Certificate of Public Convenience and Necessity to construct and operate them. Section 7(b) of the NGA specifies that no natural gas company shall abandon any portion of its facilities subject to the Commission's jurisdiction without the Commission first finding that the abandonment will not negatively affect the present or future public convenience and necessity. The Commission bases its decisions on both economic issues, including need, and environmental effects.

Any person wishing to comment on the EA may do so. Your comments should focus on the EA's disclosure and discussion of potential environmental effects, reasonable alternatives, and measures to avoid or lessen environmental effects. The more specific your comments, the more useful they will be. To ensure that the Commission has the opportunity to consider your comments prior to making its decision on this project, it is important that the Commission receives your comments in Washington, DC on or before 5:00 p.m. Eastern Time on December 1, 2025.

The EA also includes site-specific construction plans for residences within 50 feet of Project workspaces (see appendix D); affected landowners are encouraged to review these plans and provide comments within the comment period described above.

For your convenience, there are three methods you can use to file your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can also file your comments electronically using the eFiling feature on the Commission's website (www.ferc.gov) under the link to FERC Online. With eFiling, you can provide comments in a variety of formats by attaching them as a file with your submission. New eFiling users must first create an account by clicking on “eRegister.” You must select the type of filing you are making. If you are filing a comment on a particular project, please select “Comment on a Filing”; or

(3) You can file a paper copy of your comments by mailing them to the Commission. Be sure to reference the project docket number (CP25-10-000) in your letter. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852.

Filing environmental comments will not give you intervenor status, but you do not need intervenor status to have your comments considered. Only intervenors have the right to seek rehearing or judicial review of the Commission's decision. At this point in this proceeding, the timeframe for filing timely intervention requests has expired. Any person seeking to become a party to the proceeding must file a motion to intervene out-of-time pursuant to Rule 214(b)(3) and (d) of the Commission's Rules of Practice and Procedures (18 Code of Federal Regulations 385.214(b)(3) and (d)) and show good cause why the time limitation should be waived. Motions to intervene are more fully described at https://www.ferc.gov/how-intervene.

Additional information about the project is available from the Commission's Office of External Affairs, at (866) 208-FERC, or on the FERC website (www.ferc.gov) using the eLibrary link. The eLibrary link also provides access to the texts of all formal documents issued by the Commission, such as orders, notices, and rulemakings.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: October 31, 2025.
Debbie-Anne A. Reese,
Secretary.

[FR Doc. 2025-20914 Filed 11-24-25; 8:45 am]

BILLING CODE 6717-01-P